AGENCY FOR INTERNATIONAL DEVELOPMENT

Privacy Act of 1974; System of Records

AGENCY: Agency for International for Development (USAID).

ACTION: Notice of new privacy act system of records.

SUMMARY: Pursuant to the provisions of the Privacy Act of 1974 (section 522a of title 5 of the United States Code [U.S.C.]), the United States Agency for International Development (USAID) proposes to establish a new System of Records titled, “USAID 36: Private Sector Engagement Records.” The purpose of the system is to administer USAID's Private Sector Engagement Policy and enhance the risk management activities in support of its trade and investment support services. This System of Records includes a Customer Relationship Management (CRM) tool that will function as a data warehouse that maintains information on business entities and their representatives that express interest in supporting or potentially supporting USAID's mission in foreign development. This information will be used by USAID to enhance transparency, improve coordination, as well as for monitoring and evaluation by USAID program offices.

DATES: Submit comments on or before February 26, 2024. This modified system of records will be effective February 26, 2024 upon publication. The Routine Uses are effective at the close of the comment period.

ADDRESSES: You may submit comments:

Electronic

• Federal eRulemaking Portal: http://www.regulations.gov. Follow the instructions on the website for submitting comments.

• Email: Privacy@usaid.gov.

Paper

• Fax: 202-916-4946.

• Mail: Chief Privacy Officer, United States Agency for International Development, 1300 Pennsylvania Avenue NW, Washington, DC 20523.

FOR FURTHER INFORMATION CONTACT: Ms. Celida A. Malone, USAID Privacy Program at United States Agency for International Development, Bureau for Management, Office of the Chief Information Officer, Information Assurance Division: ATTN: USAID Privacy Program, 1300 Pennsylvania Avenue NW, Washington, DC 20523, or by phone number at 202-916-4605.

SUPPLEMENTARY INFORMATION: The Private Sector Engagement (PSE) System of Records collects information on businesses, vendors, foundations and philanthropies, business associations, labor organizations, investment entities, and other private sector entities and their representatives that express interest in doing business in USAID-supported countries. USAID uses this information to improve collaboration and increase two-way trade and investment between the United States and USAID-supported countries, and to catalyze private sector resources to advance, sustain, and support U.S. global development and humanitarian assistance objectives.

USAID engages private sector entities in a variety of ways including, but not limited to: facilitating investment and transactions in beneficiary countries; co-funding public-private partnership programs and activities; reducing investment and programmatic risks; connecting businesses with U.S. government trade and investment support services; collaborating on public policy issues of mutual interest in USAID presence countries; exchanging information, perspectives, and analysis on issues of mutual interest; and advancing U.S. global development and humanitarian assistance objectives through private-sector investment and partnership.

This System of Records is designed to improve this engagement and enhance USAID's ability to manage its relationships with companies and other private sector entities interested in supporting U.S. global development and humanitarian assistance objectives in USAID supported countries.

Dated: November 29, 2023.
Mark Joseph Johnson,
Chief Privacy Officer, United States Agency for International Development.

SYSTEM NAME AND NUMBER:

USAID-36, Private Sector Engagement Records.

SECURITY CLASSIFICATION:

Sensitive But Unclassified.

SYSTEM LOCATION:

United States Agency for International Development (USAID), 1300 Pennsylvania Avenue NW, Washington, DC 20523; Salesforce, 7600 Doane Drive, Manassas, VA 20109; and other USAID facilities in the United States and throughout the world.

SYSTEM MANAGER:

Managing Director, Relationship Management Systems, USAID Private Sector Engagement Hub, Bureau for Inclusive Growth, Partnerships, and Innovation (IPI/PSE), United States Agency for International Development (USAID), 1300 Pennsylvania Avenue NW, Washington, DC 20004. Email: crm@usaid.gov.

AUTHORITY FOR MAINTENANCE OF THE SYSTEM:

The Foreign Assistance Act of 1961 (FAA), as amended; and African Growth and Opportunity Act (AGOA) and Millennium Challenge Act Modernization Act (MCA Modernization Act), Public Law 115-167 Title II (2018).

PURPOSE OF THE SYSTEM:

The purpose of the system is to administer USAID's Private Sector Engagement Policy and enhance the risk management activities in support of its trade and investment support services. This System of Records includes a Customer Relationship Management (CRM) tool that will function as a data warehouse that maintains information on the directors, officers and employees of business entities that express interest in supporting or potentially supporting USAID's mission in foreign development. This information will be used by USAID to enhance transparency, improve coordination, as well as for monitoring and evaluation by USAID program offices.

CATEGORIES OF INDIVIDUALS COVERED BY THE SYSTEM:

This System of Records contains information about representatives of current, former, and prospective applicants to USAID Private Sector Engagement programs, as well as personal and professional references of partners and participants supporting USAID Private Sector Engagement programs.

CATEGORIES OF RECORDS IN THE SYSTEM:

The system maintains personal and commercial information, which includes:

• Contact information: name, business email address, business phone number(s), fax number, business address, title/position;

• Biometric identifiers or data: photos, signatures;

• Demographic information: sex/gender, marital status, personal and professional designations;

• System and User Activity Logs: users' login and system use activity including the date and time of each login, user activity within source IP address, geolocation, web browser, and computer platform;

• Organization Documents: business plans, proposals, company profiles, and/or business registration documents;

• Contracts and Agreements: memoranda of understanding, management agreements, non-disclosure agreements etc.; and

• Financial information: credit history information, regulatory compliance information, business taxpayer identification numbers, and investor commitments.

RECORD SOURCE CATEGORIES:

Information in this system is obtained from: authorized representatives of participating businesses and entities; employees of participating Federal agencies; existing USAID information systems; commercially licensed, publicly-available sources of business information; and U.S. Federal government data sources, registries, and listings, such as but not limited to the U.S. Department of Commerce Consolidated Screening List.

This information may be collected through a variety of electronic and non-electronic means, including: meetings and information that have been volunteered by the organization and individual (e.g., business cards); emails and email signatures; registration for and/or participation in USAID events (e.g., business roundtables); social media outlets; electronic feedback submissions; electronic requests for more information from the Agency; and contacting the Agency through various Agency-sponsored websites.

ROUTINE USES OF RECORDS MAINTAINED IN THE SYSTEM, INCLUDING CATEGORIES OF USERS AND PURPOSES OF SUCH USES:

In addition to those disclosures generally permitted under 5 U.S.C. 552a(b) of the Privacy Act, all or a portion of the information contained in this system may be disclosed to authorized entities, as is determined to be relevant and necessary, outside USAID as a routine use pursuant to 5 U.S.C. 552a(b)(3) as follows:

(1) To third-party service providers contracted by USAID to facilitate and/or coordinate public-private collaboration and cooperation events and activities on behalf of USAID, such as but not limited to training, outreach, marketing, and matchmaking activities.

(2) To an agency or organization, including the USAID's Office of Inspector General, for the purpose of performing audit or oversight operations as authorized by law, but only such information as is necessary and relevant to such audit or oversight function.

(3) To the Department of Justice or other appropriate United States Government Agency when the records are arguably relevant to a proceeding in a court or other tribunal in which USAID or a USAID official, in his or her official capacity, is a party or has an interest, or when the litigation is likely to affect USAID.

(4) In the event of an indication of a violation or potential violation of law, whether civil, criminal or regulatory in nature, and whether arising by statute or particular program pursuant thereto, to the appropriate agency, whether federal, state, local, or foreign, charged with the responsibility of investigating or prosecuting such violation or charged with enforcing or implementing the statute, or rule, regulation or order involved.

(5) To appropriate officials and employees of a federal agency or entity when the information is relevant and necessary to a decision concerning the hiring or retention of an employee; the issuance of a security clearance; the reporting of an investigation of an employee; the assignment, detail, or deployment of an employee; the letting of a contract; or the approval of a grant or other benefits.

(6) To provide information to a congressional office from the record of an individual in response to an inquiry from that congressional office made at the request of the individual to whom the record pertains.

(7) To a court, magistrate, or other administrative body in the course of presenting evidence, including disclosures to counsel or witnesses in the course of civil discovery, litigation, or settlement negotiations, or in connection with criminal proceedings, when the USAID is a party to the proceeding or has a significant interest in the proceeding.

(8) To the National Archives and Records Administration for the purposes of records management inspections conducted under the authority of 44 U.S.C. 2904 and 2906.

(9) To disclose information to the Equal Employment Opportunity Commission when requested in connection with investigations into alleged or possible discrimination practices in the Federal sector, compliance by Federal agencies with the Uniform Guidelines on Employee Selection Procedures or other functions vested in the Commission and to otherwise ensure compliance with the provisions of 5 U.S.C. 7201.

(10) To appropriate agencies, entities, and persons when: (a) USAID suspects or has confirmed that there has been a breach of the system of records; (b) USAID has determined that as a result of the suspected or confirmed breach there is a risk of harm to individuals, USAID (including its information systems, programs, and operations), the Federal Government, or national security; and (c) the disclosure made to such agencies, entities, and persons is reasonably necessary to assist in connection with USAID's efforts to respond to the suspected or confirmed breach or to prevent, minimize, or remedy such harm.

(11) To another Federal Department or Agency or Federal entity, when USAID determines information from this system of records is reasonably necessary to assist the recipient Department or Agency or entity in: (a) responding to a suspected or confirmed breach; or (b) preventing, minimizing, or remedying the risk of harm to individuals, the recipient agency or entity (including its information systems, programs and operations), the Federal Government, or national security, that might result from a suspected or confirmed breach.

(12) To another agency or agent of a Government jurisdiction within or under the control of the U.S. lawfully engaged in national security or homeland defense when disclosure is undertaken for intelligence, counterintelligence activities (as defined by 50 U.S.C. 3003(3)), counterterrorism, homeland security, or related law enforcement purposes, as authorized by U.S. law or Executive Order.

(13) To either House of Congress, or, to the extent of matter within its jurisdiction, any committee or subcommittee thereof, any joint committee of Congress or subcommittee of any such joint committee. 5 U.S.C. 552a(b)(9).

POLICIES AND PRACTICES FOR STORAGE OF RECORDS:

All information contained in the System of Records is stored in electronic format. The data is encrypted at rest and in transit using Agency-approved, Federal Information Processing Standards (FIPS) compliant encryption mechanisms consistent with policy directives in USAID Automated Directive System 545, Information System Security. Users must be authenticated to the system where records are stored to retrieve the data.

POLICIES AND PRACTICES FOR RETRIEVAL OF RECORDS:

USAID's staff retrieves Private Sector Engagement records by entity name, affiliate/representative name, USAID assigned identifiers, and any other identifying data specified in the “Categories of Records.”

POLICIES AND PRACTICES FOR RETENTION AND DISPOSAL OF RECORDS:

Private Sector Engagement records are retained, retired, and destroyed in accordance with the USAID Automated Directive System, Chapter 502, The USAID Records Management Program, and the USAID Records Disposition Schedules as approved by the National Archives and Records Administration (NARA). More specific information may be obtained by emailing USAID's Records Office at recordsinquiry@usaid.gov.

ADMINISTRATIVE, TECHNICAL, AND PHYSICAL SAFEGUARDS:

Safeguards are implemented in accordance with the Privacy Act and the Federal Information Security Modernization Act of 2014 (FISMA), as well as the applicable system and business policies and procedures. These safeguards are evaluated on a recurring basis to ensure continued effective protections of the information contained within this System of Records.

To minimize the risk of unauthorized access, the System of Records employs various security controls, including explicit user access approval, multi-factor authentication, role-based access controls, data encryption, and routine monitoring of system and user activity used to maintain administrative records and perform other functions inherent in the administration and security of these records.

USAID has implemented controls to minimize the risk of compromising the information that is being processed, collected, transmitted and stored. Safeguards for systems, data, facilities, and storage containers/media include, but are not limited to the following administrative, technical and physical safeguards:

• Administrative—Security and Privacy program management functions including trained staff, implemented risk management frameworks and strategies, policies and procedures; security and privacy awareness and training; incident response and contingency plans; periodic privacy and security assessments; user agreements and access rules; and personnel security clearances and/or background checks as required.

• Technical—Access controls to limit access to only authorized personnel and to allow access only to the information required to perform official duties as assigned; audit controls to monitor activities on systems containing PII or other sensitive information; data protection which includes encryption of data-at-rest and in-transit; and person and/or entity identification and authentication to prevent unauthorized access to information or information systems.

• Physical Controls—Facility access controls include one or more of the following: guards and locked gates, doors, cabinets, etc. to limit physical access to systems, facilities, rooms, or other areas where sensitive data is stored.

RECORD ACCESS PROCEDURES:

Under the Privacy Act, individuals may request access to records about themselves. These individuals must be limited to citizens of the United States or aliens lawfully admitted for permanent residence. If a Federal department or agency, or a person who is not the individual who is the subject of the records, requests access to records about an individual, the written consent of the individual who is the subject of the records is required.

Individuals seeking access to information about themselves contained in this system of records should address inquiries to the Bureau for Management, Office of Management Services, Information and Records Division (M/MS/IRD), USAID Annex—Room 2.4.0C, 1300 Pennsylvania Avenue NW, Washington, DC 20523. The requester may complete and sign a USAID Form 507-1, Certification of Identity Form, or submit signed, written requests that should include the individual's full name, current address, telephone number, and this System of Records Notice number. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The USAID rules for accessing records, contesting contents, and appealing initial agency determinations are contained in 22 CFR 212 or may be obtained from the program manager or system owner.

NOTIFICATION PROCEDURES:

Individuals seeking to determine if information about themselves is contained in this System of Records should address inquiries to the Bureau for Management, Office of Management Services, Information and Records Division (M/MS/IRD), USAID Annex—Room 2.4.0C, 1300 Pennsylvania Avenue NW, Washington, DC 20523. Individuals may complete and sign a USAID Form 507-1, Certification of Identity Form, or submit signed, written requests that should include the individual's full name, current address, and telephone number. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

None.

Celida Ann Malone,
Government Privacy Task Lead.

[FR Doc. 2024-01452 Filed 1-24-24; 8:45 am]

BILLING CODE 6116-01-P